SECURITIES AND EXCHANGE COMMISSION

[OMB Control No. 3235-0070]

Agency Information Collection Activities; Submission for OMB Review; Comment Request; Extension: Exchange Act Form 10-Q

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form 10-Q (17 CFR 249.308a) is filed by issuers to satisfy their quarterly reporting obligations pursuant to Section 13 or 15(d) of the Securities Exchange Act of 1934 (15 U.S.C. 78m or 78o(d)). The information provided by Form 10-Q is intended to ensure the adequacy of information available to investors about an issuer. The information required by Form 10-Q is mandatory, and Form 10-Q is publicly available on the Commission's Electronic Data Gathering, Analysis, and Retrieval (“EDGAR”) system. We estimate that Form 10-Q takes approximately 180.18 hours per response to prepare and is filed three times per year by approximately 6,473 respondents, for a total of approximately 19,419 Form 10-Q filings per year. We estimate that 75% of the approximately 180.18 hours per response (135.135 hours) is prepared by the issuer for an annual reporting burden of 2,624,187 hours (135.135 hours per response × 19,419 responses). We estimate that 25% of the approximately 180.18 hours per response (45.045 hours) is carried by outside professionals retained by the issuer to assist in the preparation of the form, at an estimated cost of $600 per hour, for a total annual cost burden of $524,837,313 (45.045 hours per response × $600 per hour × 19,419 responses annually).

An agency may not conduct or sponsor, and a person is not required to respond to, a collection of information unless it displays a currently valid OMB Control Number.

The public may view and comment on this information collection request at: https://www.reginfo.gov/public/do/PRAViewICR?ref_nbr=202503-3235-005 or send an email comment to MBX.OMB.OIRA.SEC_desk_officer@omb.eop.gov within 30 days of the day after publication of this notice by September 8, 2025.

Dated: August 1, 2025.
J. Matthew DeLesDernier,
Deputy Secretary.

[FR Doc. 2025-14851 Filed 8-5-25; 8:45 am]

BILLING CODE 8011-01-P